DEPARTMENT OF HOMELAND SECURITY

Coast Guard

33 CFR Part 117

[CGD01-06-091]

Drawbridge Operation Regulations; Mill Neck Creek, Oyster Bay, NY

AGENCY: Coast Guard, DHS.

ACTION: Notice of temporary deviation from regulations; request for comments.

SUMMARY: The Commander, First Coast Guard District, has issued a temporary deviation from the regulation governing the operation of the Bayville Bridge, across Mill Neck Creek, mile 0.1, at Oyster Bay, New York. This deviation will test a change to the drawbridge operation schedule to determine whether a permanent change to the schedule is needed. Under this deviation the bridge shall be crewed on a fixed daily schedule between July 21, 2006 and October 18, 2006. At all other times the bridge shall open on signal if at least a two-hour notice is given by calling the number posted at the bridge.

DATES: This deviation is effective from July 21, 2006 through October 18, 2006. Comments must reach the Coast Guard on or before November 18, 2006.

ADDRESSES: You may mail comments and related material to Commander (dpb), First Coast Guard District Bridge Branch, One South Street, Battery Park Building, New York, New York, 10004, or deliver them to the same address between 7 a.m. and 3 p.m., Monday through Friday, except, Federal holidays. The First Coast Guard District, Bridge Branch, maintains the public docket for this deviation. Comments and material received from the public, as well as documents indicated in this notice as being available in the docket, will become part of this docket and will be available for inspection or copying at the First Coast Guard District, Bridge Branch, 7 a.m. to 3 p.m., Monday through Friday, except Federal holidays.

FOR FURTHER INFORMATION CONTACT: Judy Leung-Yee, Project Officer, First Coast Guard District, at (212) 668-7195.

SUPPLEMENTARY INFORMATION:

Request for Comments

We encourage you to participate in evaluating this test schedule by submitting comments or related material. If you do so, please include your name and address, identify the docket number for this deviation (CGD01-06-091), indicate the specific section of this document to which each comment applies, and give the reason for each comment. Please submit all comments and related material in an unbound format, no larger than 8½ by 11 inches, suitable for copying. If you would like to know if they reached us, please enclose a stamped, self-addressed postcard or envelope. We will consider all comments and material received during the comment period. Comments must be received by November 18, 2006.

Background and Purpose

The Bayville Bridge has a vertical clearance in the closed position of 9 feet at mean high water and 16 feet at mean low water. The existing drawbridge operation regulations require the bridge to open on demand.

The bridge owner, County of Nassau, Department of Public Works, requested a temporary deviation from the drawbridge operation regulations to test an alternate drawbridge operation schedule to help relieve the bridge owner from the burden of crewing the bridge during the time periods the bridge seldom receives requests to open.

Under this temporary deviation, in effect from July 21, 2006 through October 18, 2006, the Bayville Bridge at mile 0.1, across Mill Neck Creek, shall operate as follows:

From July 21, 2006 through Labor Day, September 4, 2006, the bridge shall open on signal from 7 a.m. through 5 p.m., Monday through Wednesday; from 7 a.m. through 9 p.m., on Thursday; from 7 a.m. through 11 p.m., on Friday and Saturday; and from 7 a.m. through 9 p.m. on Sunday.

From September 5, 2006 through October 18, 2006, the bridge shall open on signal from 7 a.m. through 5 p.m., daily.

At all other times the bridge shall open on signal if at least a two-hour notice is given by calling the number posted at the bridge.

This deviation from the operating regulations is authorized under 33 CFR 117.43.

Dated: July 20, 2006.
Gary Kassof,
Bridge Program Manager, First Coast Guard District.

[FR Doc. E6-12278 Filed 7-31-06; 8:45 am]

BILLING CODE 4910-15-P